DEPARTMENT OF EDUCATION

[CFDA No. 84.016A]

Office of Postsecondary Education; Undergraduate International Studies and Foreign Language Program; Notice Inviting Applications for New Awards for Fiscal Year (FY) 2002

Purpose of Program: The Undergraduate International Studies and Foreign Language Program provides grants to strengthen and improve undergraduate instruction in international studies and foreign languages.

Eligible Applicants: Institutions of higher education; combinations of institutions of higher education; partnerships between nonprofit educational organizations and institutions of higher education; and public and private non-profit agencies and organizations, including professional and scholarly associations.

Applications available: September 5, 2001.

Deadline for Transmittal of Applications: November 5, 2001.

Deadline for Intergovernmental Review: January 4, 2002.

Estimated Available Funds: The Administration has requested $4,500,000 for this program for FY 2002. The actual level of funding, if any, depends on final congressional action. However, we are inviting applications at this time to allow enough time to complete the grant process, if Congress appropriates funds for this program.

Estimated Range of Awards: $40,000-$130,000 per year.

Estimated Average Size of Awards: $76,267 per year.

Estimated Number of Awards: 32.

Note: The Department is not bound by any estimates in this notice.

Project Period: Up to 24 months for grants to single institutions of higher education, and up to 36 months for grants to combinations of institutions of higher education and partnerships.

Applicable Regulations: (a) The Education Department General Administrative Regulations (EDGAR) in 34 CFR parts 74, 75, 77, 79, 82, 85, 86, 97, 98 and 99; and (b) The regulations for this program in 34 CFR parts 655 and 658.

SUPPLEMENTARY INFORMATION: Matching requirement: Under title VI, part A, section 604(a)(3) of the Higher Education Act of 1965, as amended (HEA), 20 U.S.C. 1124(a)(5), Undergraduate International Studies and Foreign Language grantees must provide matching funds in either of the following ways: (a) Cash contributions from the private sector equal to one-third of the total project costs; or (b) a combination of institutional and non-institutional cash or in-kind contributions equal to one-half of the total project costs.

The Secretary may waive or reduce the required matching share for institutions that are eligible to receive assistance under part A or part B of title III, or under title V of the Higher Education Act of 1965, as amended.

Priorities

This competition focuses on projects designed to meet the priority in section 604(a)(5) of the HEA (20 U.S.C. 1124(a)(5)) (see 34 CFR 75.105(b)(2)(iv)):

Applications from institutions of higher education or combinations or partnerships that: (a) Require entering students to have successfully completed at least two years of secondary school foreign language instruction; (b) require each graduating student to earn two years of postsecondary credit in a foreign language or have demonstrated equivalent competence in the foreign language; or (c) in the case of a two-year degree granting institution, offer two years of postsecondary credit in a foreign language.

Under 34 CFR 75.105(c)(2)(i) we award an additional five points to an application that meets the priority.

Invitational Priority

Within the competitive priority specified in this notice, we are particularly interested in applications that meet the following invitational priority:

Applications from institutions of higher education that propose activities that enrich or enhance the effectiveness of educational programs abroad, including pre-departure and post-return programs, and integrate education programs abroad into the curriculum of the home institution.

Under 34 CFR 75.105(c)(1) we do not give an application that meets the invitational priority a competitive or absolute preference over other applications.

FOR APPLICATIONS AND FURTHER INFORMATION CONTACT: Christine Corey, Undergraduate International Studies and Foreign Language Program, U.S. Department of Education, International Education and Graduate Programs Service, 1990 K Street, NW., Suite 600, Washington, DC 20006-8521. Telephone: 202-502-7629 or via Internet: chris.corey@ed.gov

If you use a telecommunications device for the deaf (TDD), you may call the Federal Information Relay Service (FIRS) at 1-800-877-8339.

Individuals with disabilities may obtain this document in an alternative format (e.g., Braille, large print, audiotape, or computer diskette) on request to the program contact person listed under FOR APPLICATIONS AND FURTHER INFORMATION CONTACT.

Individuals with disabilities may obtain a copy of the application package in an alternative format by contacting that person. However, the Department is not able to reproduce in an alternative format the standard forms included in the application package.

Electronic Access To This Document

You may view this document, as well as all other Department of Education documents published in the Federal Register, in text or Adobe Portable Document Format (PDF) on the Internet at the following site: http://www.ed.gov/legislation/FedRegister

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html

Program Authority: 20 U.S.C. 1124.

Dated: August 13, 2001.
Robert L. Belle, Jr.,
Director, Higher Education, Preparation and Support Services, Office of Postsecondary Education.

[FR Doc. 01-20704 Filed 8-16-01; 8:45 am]

BILLING CODE 4000-01-P